DEPARTMENT OF ENERGY

Federal Energy Regulatory Commission

18 CFR Part 40

[Docket No. RM06-16-000]

Mandatory Reliability Standards for the Bulk-Power System; Stay of Effective Date

May 31, 2007.

AGENCY: Federal Energy Regulatory Commission, DOE.

ACTION: Stay of effective date.

SUMMARY: This document contains corrections to the preamble of the Commission's Final Rule, which was published in the Federal Register of Wednesday, April 4, 2007 (72 FR 16,416). The Final Rule established mandatory Reliability Standards for the Bulk-Power System. The Government Accountability Office has determined that, pursuant to the Congressional Review Act, 5 U.S.C. 801(a)(3)(A), the effective date of the Final Rule is June 18, 2007, rather than June 4, 2007.

DATES: The rule published April 4, 2007 (72 FR 16416) is stayed until June 18, 2007.

FOR FURTHER INFORMATION CONTACT: Jonathan First (Legal Information), Office of the General Counsel, Federal Energy Regulatory Commission, 888 First Street, NE., Washington, DC 20426, (202) 502-8529.

SUPPLEMENTARY INFORMATION: On March 16, 2007, the Commission issued a Final Rule in the above-docketed proceeding, Mandatory Reliability Standards for the Bulk Power System, Order No. 693, 72 FR 16416 (Apr. 4, 2007), FERC Stats. and Regs. ¶ 31,241 (2007). The Government Accountability Office has determined that, pursuant to the Congressional Review Act, 5 U.S.C. 801(a)(3)(A), the effective date of the Final Rule is June 18, 2007, rather than June 4, 2007.

Kimberly D. Bose,
Secretary.

[FR Doc. E7-10831 Filed 6-6-07; 8:45 am]

BILLING CODE 6717-01-P